DEPARTMENT OF COMMERCE

International Trade Administration

[A-351-864, A-570-184, A-533-934, A-552-847]

Hard Empty Capsules From Brazil, the People's Republic of China, India, and the Socialist Republic of Vietnam: Antidumping Duty Orders

AGENCY: Enforcement and Compliance, International Trade Administration, Department of Commerce.

SUMMARY: Based on affirmative final determinations by the U.S. Department of Commerce (Commerce) and the U.S. International Trade Commission (ITC), Commerce is issuing antidumping duty orders on hard empty capsules (capsules) from Brazil, the People's Republic of China (China), India, and the Socialist Republic of Vietnam (Vietnam).

DATES: Applicable February 23, 2026.

FOR FURTHER INFORMATION CONTACT: Gemma Larsen at (202) 482-8125 (Brazil); Rebecca Janz or Jerry Xiao at (202) 482-2972 and (202) 482-2273, respectively (China); Luke Caruso or Joseph Molokwu at (202) 482-2081 and (202) 482-8043, respectively (India); and Jinny Ahn or Harrison Tanchuck at (202) 482-0339 and (202) 482-7421, respectively (Vietnam), AD/CVD Operations, Offices I, II, IV, and VI, Enforcement and Compliance, International Trade Administration, U.S. Department of Commerce, 1401 Constitution Avenue NW, Washington, DC 20230.

SUPPLEMENTARY INFORMATION:

Background

On December 29, 2025, Commerce published its affirmative final determinations in the less-than-fair-value (LTFV) investigations of capsules from Brazil, China, India, and Vietnam, in accordance with sections 735(d) and 777(i) of the Tariff Act of 1930, as amended (the Act).¹ On February 12, 2026, the ITC notified Commerce of its final affirmative determinations that an industry in the United States is materially injured by reason of dumped imports of capsules from China, India, and Vietnam, within the meaning of section 735(b)(1)(A)(i) of the Act, and threatened with material injury by reason of dumped imports of capsules from Brazil, within the meaning of 735(b)(1)(A)(ii)of the Act.²

¹ See Hard Empty Capsules from Brazil: Final Affirmative Determination of Sales at Less Than Fair Value, 90 FR 60610 (December 29, 2025) (Brazil Final Determination); see also Hard Empty Capsules from the People's Republic of China: Final Affirmative Determination of Sales at Less Than Fair Value, 90 FR 60623 (December 29,2025) (China Final Determination); Hard Empty Capsules from India: Final Affirmative Determination of Sales at Less Than Fair Value, 90 FR 60613 (December 29, 2025) (India Final Determination); and Hard Empty Capsules from the Socialist Republic of Vietnam: Final Affirmative Determination of Sales at Less Than Fair Value, 90 FR 60626 (December 29, 2025) (Vietnam Final Determination).

² See ITC's Letter, “Notification of ITC Final Determinations,” dated February 12, 2026 (ITC Notification Letter).

Scope of the Orders

The products covered by these orders are capsules from Brazil, China, India, and Vietnam. For a complete description of the scope of these orders, see the appendix to this notice

Antidumping Duty Orders

Based on the above-referenced affirmative final determinations by the ITC that an industry in the United States is materially injured by reason of LTFV imports of capsules from China, India, and Vietnam, and that an industry in the United States is threatened by reason of such imports from Brazil, and in accordance with sections 735(c)(2) and 736 of the Act, Commerce is issuing these antidumping duty orders. Because the ITC determined that an industry in the United States is materially injured by reason of capsules from China, India, and Vietnam, and that an industry in the United States is threatened with material injury by reason of imports of capsules from Brazil, unliquidated entries of such merchandise from these countries entered or withdrawn from warehouse for consumption, are subject to the assessment of antidumping duties.

Therefore, in accordance with section 736(a)(1) of the Act, Commerce will direct U.S. Customs and Border Protection (CBP) to assess, upon further instruction by Commerce, antidumping duty deposits equal to the amount by which the normal value of the merchandise exceeds the export price (or constructed export price) of the merchandise, on all relevant entries of capsules from Brazil, China, India and Vietnam. Antidumping duties will be assessed on unliquidated entries of capsules from China, India, and Vietnam entered, or withdrawn from warehouse, for consumption on or after May 29, 2025, the date of publication of the Preliminary Determinations,³ but will not include entries occurring after the expiration of the provisional measures period and before publication of the ITC's final injury determination, as further described below.

³ See Hard Empty Capsules from the People's Republic of China: Preliminary Affirmative Determination of Sales at Less Than Fair Value, Postponement of Final Determination, and Extension of Provisional Measures, 90 FR 22704 (May 29, 2025); Hard Empty Capsules from India: Preliminary Affirmative Determination of Sales at Less Than Fair Value, Postponement of Final Determination and Extension of Provisional Measures, 90 FR 22699 (May 29, 2025) (India Preliminary Determination); and Hard Empty Capsules from the Socialist Republic of Vietnam: Preliminary Affirmative Determination of Sales at Less Than Fair Value, Postponement of Final Determination, and Extension of Provisional Measures, 90 FR 22708 (May 29, 2025) (collectively, Preliminary Determinations).

Pursuant to section 736(b)(2) of the Act, antidumping duties shall be assessed on subject merchandise entered, or withdrawn from warehouse, for consumption on or after the date of publication of the ITC's notice of final determination if that determination is based on the threat of material injury and is not accompanied by a finding that injury would have resulted without the suspension of liquidation of entries since Commerce's preliminary determination. In addition, section 736(b)(2) of the Act requires CBP to refund any cash deposits of estimated antidumping duties posted before the date of publication of the ITC's final affirmative determination, if the ITC's final determination is based on threat other than the threat described in section 736(b)(1) of the Act.

Because the ITC's final determination with respect to Brazil is based on the threat of material injury and is not accompanied by a finding that injury would have resulted but for the imposition of suspension of liquidation of entries since publication of the Brazil Preliminary Determination, section 736(b)(2) of the Act is applicable.⁴ Therefore, Commerce will instruct CBP to assess, upon further instruction by Commerce, antidumping duties on entries of capsules from Brazil entered, or withdrawn from warehouse, for consumption on or after the date of publication of the ITC's notice of final determinations of threat of material injury in the Federal Register, in accordance with the dumping margins listed in the rate chart below for Brazil.

⁴ See Hard Empty Capsules from Brazil: Preliminary Affirmative Determination of Sales at Less Than Fair Value, Postponement of Final Determination, and Extension of Provisional Measures, 90 FR 22688 (May 29, 2025) (Brazil Preliminary Determination).

Suspension of Liquidation and Cash Deposits

In accordance with section 736 of the Act, Commerce intends to instruct CBP to reinstitute the suspension of liquidation of capsules from Brazil, China, India, and Vietnam, effective on the date of publication of the ITC's final affirmative injury determination in the Federal Register, and to assess, upon further instruction by Commerce, pursuant to section 736(a)(1) of the Act, antidumping duties on each entry of subject merchandise equal to the amount by which normal value of the merchandise exceeds the export price or constructed export price of the merchandise. These instructions will remain in effect until further notice.

Commerce also intends to instruct CBP to require cash deposits equal to the estimated weighted-average dumping margins indicated in the tables below, adjusted by the relevant subsidy offsets. Accordingly, effective on the date of publication in the Federal Register of the notice of the ITC's final affirmative injury determination, CBP will require, at the same time as importers would normally deposit estimated customs duties on subject merchandise, a cash deposit equal to the rates listed in the tables below. The relevant all-others rate (for Brazil and India), the rate for the China-wide entity (for China), or the rate for the Vietnam-wide entity (for Vietnam), as applicable, apply to all producers and exporters not specifically listed.

With respect to China, Commerce determined a weighted-average dumping margin of zero percent for subject merchandise produced and exported by Shanxi JC Biological Technology Co., Ltd As such, we are excluding this producer/exporter combination from the antidumping duty order on capsules from China. On the basis of the negative China Final Determination ⁵ for this producer/exporter combination, we instructed CBP to discontinue the suspension of liquidations and to refund all cash deposits collected for this producer/exporter combination. Such exclusion will not be applicable to merchandise exported to the United States by any other producer/exporter combinations or by third-country exporters that sourced from the excluded producer/exporter combination(s). The China-wide entity rate applies to all exporter/producer combinations not specifically listed below.

⁵ See China Final Determination, 90 FR at 60624-25.

Estimated Weighted-Average Dumping Margins

The estimated weighted-average dumping margins are as follows:

⁶ Entries of subject merchandise that were produced and exported by Shanxi JC Biological Technology Co., Ltd are excluded from the AD order on capsules from China.

Brazil

Producer/exporter | Weighted-average dumping margin (percent)
ACG do Brasil S.A | 77.63
All Others | 77.63

China

Producer | Exporter | Weighted-average dumping margin (percent)
Shandong Healsee Capsule Ltd | Shandong Healsee Capsule Ltd | 18.71
Shanxi JC Biological Technology Co., Ltd | Shanxi JC Biological Technology Co., Ltd | ⁶ 0.00
Guizhou Guang De Li Pharmaceuticals Co., Ltd | Guizhou Guang De Li Pharmaceuticals Co., Ltd | 18.71
Hebei Kangxin Plant Capsule Co., Ltd | Hebei Kangxin Plant Capsule Co., Ltd | 18.71
Hubei Kornnac Pharmaceutical Co., Ltd | Hubei Kornnac Pharmaceutical Co., Ltd | 18.71
Jiangsu Lefan Capsule Co., Ltd | Jiangsu Lefan Capsule Co., Ltd | 18.71
Jiujiang Angtai Capsule Co., Ltd | Jiujiang Angtai Capsule Co., Ltd | 18.71
Qingdao Yiqing Biotechnology Co., Ltd | Qingdao Yiqing Biotechnology Co., Ltd | 18.71
Shaanxi Genex Bio-Tech Co., Ltd | Shaanxi Genex Bio-Tech Co., Ltd | 18.71
Shanghai Guang De Li Capsule Co., Ltd | Shanghai Guang De Li Capsule Co., Ltd | 18.71
Shanxi Guangsheng Medicinal Capsule Co., Ltd; Shanxi Guangsheng Capsule Co., Ltd | Shanxi Guangsheng Medicinal Capsule Co., Ltd; Shanxi Guangsheng Capsule Co., Ltd | 18.71
Shaoxing Kangke Capsule Co., Ltd | Shaoxing Kangke Capsule Co., Ltd | 18.71
Shaoxing Renhe Capsule Co., Ltd | Shaoxing Renhe Capsule Co., Ltd | 18.71
Xinchang County Hexin Capsule Co., Ltd | Xinchang County Hexin Capsule Co., Ltd | 18.71
Xinchang County No.6 Capsule Factory | Xinchang Paulo Import And Export Co., Ltd | 18.71
Shaoxing Kangke Capsule Co., Ltd | Xinchang Paulo Import And Export Co., Ltd | 18.71
Zhejiang Huaguang Capsule Co., Ltd | Xinchang Paulo Import And Export Co., Ltd | 18.71
Shanxi Guangsheng Capsule Co., Ltd | Xinchang Paulo Import And Export Co., Ltd | 18.71
Zhejiang Pujiang Enerkang Capsule Co., Ltd | Xinchang Paulo Import And Export Co., Ltd | 18.71
Yantai Oriental Pharmacap Co., Ltd | Yantai Oriental Pharmacap Co., Ltd | 18.71
Ningbo Capsulcn Capsule Co., Ltd | Zhejiang Capsulcn Machinery Co., Ltd | 18.71
Shaoxing Zhongya Capsules Industry Co., Ltd | Zhejiang Capsulcn Machinery Co., Ltd | 18.71
Shandong Healsee Capsule Ltd | Zhejiang Capsulcn Machinery Co., Ltd | 18.71
Zhejiang Guangjuyuan Biotechnology Co., Ltd | Zhejiang Capsulcn Machinery Co., Ltd | 18.71
Zhejiang Huaguang Capsule Co., Ltd | Zhejiang Capsulcn Machinery Co., Ltd | 18.71
Zhejiang Huaguang Capsule Co., Ltd | Zhejiang Huaguang Capsule Co., Ltd | 18.71
Zhejiang Huili Capsules Co., Ltd | Zhejiang Huili Capsules Co., Ltd | 18.71
Zhejiang Lujian Capsule Co., Ltd | Zhejiang Lujian Capsule Co., Ltd | 18.71
China-Wide Entity |  | 18.71

India

Producer/exporter | Weighted-average dumping margin (percent) | Cash deposit rate (adjusted for export subsidy offset(s)) (percent)
ACG Associated Capsules Private Limited; ACG Universal Capsules Private Limited; and Custom Capsules Private Limited ⁷ | 26.69 | 19.71
HealthCaps India Limited | 10.66 | 3.68
All Others | 18.68 | 11.70

Vietnam

Producer | Exporter | Weighted-average dumping margin (percent) | Cash deposit rate (adjusted for export subsidy offset) (percent))
Suheung Vietnam Co., Ltd | Suheung Vietnam Co., Ltd | 47.12 | 46.24
Vietnam-Wide Entity | 47.12 | 46.24

Provisional Measures

⁷ In the India Preliminary Determination, 90 FR 22700, and unchanged in the India Final Determination, 90 FR 60615, Commerce determined that these companies are a single entity.

Section 733(d) of the Act states that suspension of liquidation pursuant to an affirmative preliminary determination may not remain in effect for more than four months, except where exporters representing a significant proportion of exports of the subject merchandise request that Commerce extend the four-month period to no more than six months. At the request of exporters that account for a significant proportion of capsules from Brazil, China, India and Vietnam, Commerce extended the four-month period to six months.⁸

⁸ See Preliminary Determinations.

In the underlying investigations, Commerce published the Preliminary Determinations on May 29, 2025. As such, the six-month period beginning on the date of the publication of the Preliminary Determinations ended on November 24, 2025. Therefore, entries of capsules from Brazil, China, India, and Vietnam made on or after November 24, 2025, and prior to the date of publication of the ITC's final determinations in the Federal Register, are not subject to the assessment of antidumping duties.

Therefore, in accordance with section 733(d) of the Act, Commerce instructed CBP to terminate the suspension of liquidation and to liquidate, without regard to antidumping duties, unliquidated entries of capsules from Brazil, China, India and Vietnam entered, or withdrawn from warehouse, for consumption on or after November 25, 2025, the day on which the provisional antidumping duty measures expired. Suspension of liquidation and the collection of cash deposits will resume on the date of publication of the ITC's final determinations in the Federal Register.

Establishment of the Annual Inquiry Service Lists

On September 20, 2021, Commerce published the Final Rule in the Federal Register.⁹ On September 27, 2021, Commerce also published the Procedural Guidance in the Federal Register.¹⁰ The Final Rule and Procedural Guidance provide that Commerce will maintain an annual inquiry service list for each order or suspended investigation, and any interested party submitting a scope ruling application or request for circumvention inquiry shall serve a copy of the application or request on the persons on the annual inquiry service list for that order, as well as any companion order covering the same merchandise from the same country of origin.

⁹ See Regulations to Improve Administration and Enforcement of Antidumping and Countervailing Duty Laws, 86 FR 52300 (September 20, 2021) (Final Rule).

¹⁰ See Scope Ruling Application; Annual Inquiry Service List; and Informational Sessions, 86 FR 53205 (September 27, 2021) (Procedural Guidance).

In accordance with the Procedural Guidance, for orders published in the Federal Register after November 21, 2021, Commerce will create an annual inquiry service list segment in Commerce's online e-filing and document management system, Antidumping and Countervailing Duty Electronic Service System (ACCESS), available at https://access.trade.gov, within five business days of publication of the notice of the order. Each annual inquiry service list will be saved in ACCESS, under each case number, and under a specific segment type called “AISL—Annual Inquiry Service List.” ¹¹

¹¹ This segment will be combined with the ACCESS Segment Specific Information (SSI) field that will display the month in which the notice of the order or suspended investigation was published in the Federal Register, also known as the anniversary month. For example, for an order under case number A-000-000 that was published in the Federal Register in January, the relevant segment and SSI combination will appear in ACCESS as “AISL—January Anniversary.” Note that there will be only one annual inquiry service list segment per case number, and the anniversary month will be pre-populated in ACCESS.

Interested parties who wish to be added to the annual inquiry service list for an order must submit an entry of appearance to the annual inquiry service list segment for the order in ACCESS within 30 days after the date of publication of the order. For ease of administration, Commerce requests that law firms with more than one attorney representing interested parties in an order designate a lead attorney to be included on the annual inquiry service list. Commerce will finalize the annual inquiry service list within five business days thereafter. As mentioned in the Procedural Guidance,¹² the new annual inquiry service list will be in place until the following year, when the Opportunity Notice for the anniversary month of the order is published.

¹² See Procedural Guidance, 86 FR at 53206.

Commerce may update an annual inquiry service list at any time as needed based on interested parties' amendments to their entries of appearance to remove or otherwise modify their list of members and representatives, or to update contact information. Any changes or announcements pertaining to these procedures will be posted to the ACCESS website.

Special Instructions for the Petitioner and Foreign Governments

In the Final Rule, Commerce stated that, “after an initial request and placement on the annual inquiry service list, both petitioners and foreign governments will automatically be placed on the annual inquiry service list in the years that follow.” ¹³ Accordingly, as stated above, the petitioner and foreign governments should submit their initial entries of appearance after publication of this notice in order to appear in the first annual inquiry service lists for these orders. Pursuant to 19 CFR 351.225(n)(3), the petitioner and foreign governments will not need to resubmit their entries of appearance each year to continue to be included on the annual inquiry service list. However, the petitioner and foreign governments are responsible for making amendments to their entries of appearance during the annual update to the annual inquiry service list in accordance with the procedures described above.

¹³ See Final Rule, 86 FR at 52335.

Notification to Interested Parties

This notice constitutes the antidumping duty orders with respect to capsules from Brazil, China, India, and Vietnam, pursuant to section 736(a) of the Act. Interested parties can find a list of antidumping duty and countervailing duty orders currently in effect at https://enforcement.trade.gov/stats/iastats1.html.

Dated: February 17, 2026.
Christopher Abbott,
Deputy Assistant Secretary for Policy and Negotiations, performing the non-exclusive functions and duties of the Assistant Secretary for Enforcement and Compliance.

Appendix

Scope of the Orders

The merchandise covered by the scope of these orders is hard empty capsules, which are comprised of two prefabricated, hollowed cylindrical sections (cap and body). The cap and body pieces each have one closed and rounded end and one open end, and are constructed with different or equal diameters at their open ends.

Hard empty capsules are unfilled cylindrical shells composed of at least 80 percent by weight of a water soluble polymer that is considered non-toxic and appropriate for human or animal consumption by the United States Pharmacopeia—National Formulary (USP-NF), Food Chemical Codex (FCC), or equivalent standards. The most common polymer materials in hard empty capsules are gelatin derived from animal collagen (including, but not limited to, pig, cow, or fish collagen), hydroxypropyl methylcellulose (HPMC), and pullulan.

Hard empty capsules may also contain water and additives, such as opacifiers, colorants, processing aids, controlled release agents, plasticizers, and preservatives. Hard empty capsules may also be imprinted or otherwise decorated with markings.

Hard empty capsules are covered by the scope of these orders regardless of polymer material, additives, transparency, opacity, color, imprinting, or other markings.

Hard empty capsules are also covered by the scope of these orders regardless of their size, weight, length, diameter, thickness, and filling capacity.

Cap and body pieces of hard empty capsules are covered by the scope of these orders regardless of whether they are imported together or separately, and regardless of whether they are imported in attached or detached form.

Hard empty capsules covered by the scope of these orders are those that disintegrate in water, simulated intestinal fluid, simulated gastric fluid, or other similar water-based (i.e., aqueous) fluids within 2 hours under tests specified in Chapter 701 of the USP-NF, or equivalent disintegration tests.

Hard empty capsules are classifiable under subheadings 9602.00.1040 and 9602.00.5010 of the Harmonized Tariff Schedule of the United States (HTSUS). In addition, hard empty capsules may be imported under HTSUS subheading 1905.90.9090; gelatin hard empty capsules may be imported under HTSUS subheading 3503.00.5510; HPMC hard empty capsules may be imported under HTSUS subheading 3923.90.0080; and pullulan hard empty capsules may be imported under HTSUS subheading 2106.90.9998. Although the HTSUS subheadings are provided for convenience and customs purposes, the written description of the merchandise covered by these orders is dispositive.

[FR Doc. 2026-03484 Filed 2-20-26; 8:45 am]

BILLING CODE 3510-DS-P